DEPARTMENT OF COMMERCE

Census Bureau

Proposed Information Collection; Comment Request; Current Population Survey, Annual Social and Economic Supplement

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before November 4, 2013.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Aaron Cantu, U.S. Census Bureau, DSD/CPS HQ-7H108D, Washington, DC 20233-8400, (301) 763-3806 (or via the Internet at aaron.benjamin.cantu@census.gov).

SUPPLEMENTARY INFORMATION:

I. Abstract

The Census Bureau plans to request clearance for the collection of data concerning the Annual Social and Economic Supplement (ASEC) to be conducted in conjunction with the February, March, and April Current Population Survey (CPS). The Census Bureau has conducted this supplement annually for over 50 years. The Census Bureau and the Bureau of Labor Statistics sponsor this supplement.

Information on work experience, personal income, noncash benefits, health insurance coverage, and migration is collected. The work experience items in the ASEC provide a unique measure of the dynamic nature of the labor force as viewed over a one-year period. These items produce statistics that show movements in and out of the labor force by measuring the number of periods of unemployment experienced by people, the number of different employers worked for during the year, the principal reasons for unemployment, and part-/full-time attachment to the labor force. We can make indirect measurements of discouraged workers and others with a casual attachment to the labor market.

The income data from the ASEC are used by social planners, economists, government officials, and market researchers to gauge the economic well-being of the country as a whole, and selected population groups of interest. Government planners and researchers use these data to monitor and evaluate the effectiveness of various assistance programs. Market researchers use these data to identify and isolate potential customers. Social planners use these data to forecast economic conditions and to identify special groups that seem to be especially sensitive to economic fluctuations. Economists use ASEC data to determine the effects of various economic forces, such as inflation, recession, recovery, and so on, and their differential effects on various population groups.

A prime statistic of interest is the classification of people in poverty and how this measurement has changed over time for various groups. Researchers evaluate ASEC income data not only to determine poverty levels but also to determine whether government programs are reaching eligible households.

The ASEC also contains questions related to: (1) Medical expenditures; (2) Presence and cost of a mortgage on property; (3) Child support payments; and (4) Amount of child care assistance received. These questions enable analysts and policymakers to obtain better estimates of family and household income, and more precisely gauge poverty status.

It has been more than 30 years since the last major redesign of the income questions of this questionnaire (1980), and the need to modernize this survey to take advantage of computer assisted interviewing (CAI) technologies has become more and more apparent. To this end, the redesigned 2014 ASEC questionnaire incorporates the following strategies:

• customization of income questions to fit specific demographic groups

• use of better targeted questions for certain income types that are currently not well reported

In addition, the CPS ASEC health insurance questions have measurement error due to both the reference period and timing of data collection. Qualitative research has shown that some respondents do not focus on the calendar year reference period, but rather report on their current insurance status. Quantitative studies have shown that those with more recent coverage are more likely to report accurately than those with coverage farther in the past. To that end, the redesigned ASEC questionnaire incorporates the following strategies:

• integrate questions on both current and past calendar year status

• ask recipiency and amounts separately

In addition to making improvements to the core set of questions on health insurance, in 2014 the Patient Protection and Affordable Care Act (PPACA) is set to go into effect. One of the main features of the PPACA is the “Health Insurance Exchange.” These are joint federal-state partnerships designed to create a marketplace of private health insurance options for individuals and small businesses. While these Exchanges are still in development and states have broad flexibility in designing the programs, the redesigned ASEC questionnaire puts a viable methodology in place, when the PPACA goes into effect, to measure Exchange participation and to measure types of health coverage in general in the post-reform era.

Lastly, the point-in-time health insurance questions lend themselves to additional questions concerning whether the current employer offered the respondent health insurance coverage. Although this set of questions is new to the CPS ASEC, it has been in CPS production in the Contingent Worker Supplement (CWS). The CWS was fielded in February of 1995, 1997, 1999, 2001 and 2005.

The ASEC 2014 data collection instrument will have a split-design structure, with two separate treatments for the income-related section. Only the income questions will have separate treatments; other sections will have only one treatment. Five-eighths (⅝) of the sample will have income questions from the “traditional” design, while three-eighths (⅜) will have income questions from the “redesigned” ASEC. This split-design will enable Census Bureau analysts to create a “cross-walk” when analyzing the effects of the redesigned ASEC on income and poverty estimates.

The U.S. Census Bureau continues to follow the 1999 mandate from Congress regarding passage of the State Children's Health Insurance Program (SCHIP), or Title XXI. The mandate increased the sample size for the CPS, and specifically the ASEC, to a level achieving estimates that are more reliable for the number of individuals participating in this program at the state level. Since 2000, the ASEC is conducted in February, March, and April, rather than only in March, to achieve the increase in sample size.

II. Method of Collection

The ASEC information will be collected by both personal visit and telephone interviews in conjunction with the regular February, March and April CPS interviewing. All interviews are conducted using computer-assisted interviewing.

III. Data

OMB Control Number: 0607-0354.

Form Number: There are no forms. We conduct all interviewing on computers.

Type of Review: Regular submission.

Affected Public: Individuals or households.

Estimated Number of Respondents: 78,000.

Estimated Time per Response: 25 minutes.

Estimated Total Annual Burden Hours: 32,500.

Estimated Total Annual Cost: There are no costs to the respondents other than their time to answer the CPS questions.

Respondent's Obligation: Voluntary.

Legal Authority: Title 13, United States Code, Section 182; and Title 29, United States Code, Sections 1-9.

IV. Request for Comments

Comments are invited on: (A) Whether the proposed collection of information is necessary for the proper performance of the functions of the agency, including whether the information shall have practical utility; (B) The accuracy of the agency's estimate of the burden (including hours and cost) of the proposed collection of information; (C) Ways to enhance the quality, utility, and clarity of the information to be collected; and (D) Ways to minimize the burden of the collection of information on respondents, including through the use of automated collection techniques or other forms of information technology.

Comments submitted in response to this notice will be summarized and/or included in the request for OMB approval of this information collection; they also will become a matter of public record.

Dated: August 29, 2013.
Gwellnar Banks,
Management Analyst, Office of the Chief Information Officer.

[FR Doc. 2013-21538 Filed 9-4-13; 8:45 am]

BILLING CODE 3510-07-P